ENVIRONMENTAL PROTECTION AGENCY

[FRL-7240-2]

Federal Agency Hazardous Waste Compliance Docket

AGENCY: Environmental Protection Agency.

ACTION: Notice of fifteenth update of the Federal Agency Hazardous Waste Compliance Docket, pursuant to CERCLA section 120(c).

SUMMARY: Section 120(c) of the Comprehensive Environmental Response, Compensation, and Liability Act of 1980 (CERCLA), as amended by the Superfund Amendments and Reauthorization Act of 1986 (SARA), requires the Environmental Protection Agency (EPA) to establish a Federal Agency Hazardous Waste Compliance Docket. The docket is to contain certain information about Federal facilities that manage hazardous waste or from which hazardous substances have been or may be released. (As defined by CERCLA section 101(22), a release is any spilling, leaking, pumping, pouring, emitting, emptying, discharging, injecting, escaping, leaching, dumping, or disposing into the environment.) CERCLA requires that the docket be updated every six months, as new facilities are reported to EPA by Federal agencies. The following list identifies the Federal facilities to be included in this fifteenth update of the docket and includes facilities not previously listed on the docket and reported to EPA since the last update of the docket, 66 FR 50185, October 2, 2001, which was current as of May 1, 2001. SARA, as amended by the Defense Authorization Act of 1997, specifies that, for each Federal facility that is included on the docket during an update, evaluation shall be completed in accordance with a reasonable schedule. Such site evaluation activities will help determine whether the facility should be included on the National Priorities List (NPL) and will provide EPA and the public with valuable information about the facility. In addition to the list of additions to the docket, this notice includes a section that comprises revisions (that is, corrections and deletions) of the previous docket list. This update contains thirty additions and thirteen deletions since the previous update, as well as numerous other corrections to the docket list. At the time of publication of this notice, the new total number of Federal facilities listed on the docket is 2,231.

DATES: This list is current as of January 31, 2002.

FOR FURTHER INFORMATION CONTACT: Electronic versions of the docket may be obtained at http://www.epa.gov/oeca/fedfac/oversight/oversight.html.

SUPPLEMENTARY INFORMATION:

Table of Contents

1.0 Introduction

2.0 Revisions of the Previous Docket

3.0 Process for Compiling the Updated Docket

4.0 Facilities Not Included

5.0 Facility Status Reporting

6.0 Information Contained on Docket Listing

1.0 Introduction

Section 120(c) of the Comprehensive Environmental Response, Compensation, and Liability Act of 1980 (CERCLA), 42 United States Code (U.S.C.) 9620(c), as amended by the Superfund Amendments and Reauthorization Act of 1986 (SARA), required the establishment of the Federal Agency Hazardous Waste Compliance Docket. The docket contains information on Federal facilities that is submitted by Federal agencies to the U.S. Environmental Protection Agency (EPA) under sections 3005, 3010, and 3016 of the Resource Conservation and Recovery Act (RCRA), 42 U.S.C. 6925, 6930, and 6937, and under section 103 of CERCLA, 42 U.S.C. 9603. Specifically, RCRA section 3005 establishes a permitting system for certain hazardous waste treatment, storage, and disposal (TSD) facilities; RCRA section 3010 requires waste generators and transporters and TSD facilities to notify EPA of their hazardous waste activities; and RCRA section 3016 requires Federal agencies to submit biennially to EPA an inventory of hazardous waste sites that the Federal agencies own or operate. CERCLA section 103(a) requires that the National Response Center (NRC) be notified of a release. CERCLA section 103(c) requires reporting to EPA the existence of a facility at which hazardous substances are or have been stored, treated, or disposed of and the existence of known or suspected releases of hazardous substances at such facilities.

The docket serves three major purposes: (1) To identify all Federal facilities that must be evaluated to determine whether they pose a risk to human health and the environment sufficient to warrant inclusion on the National Priorities List (NPL); (2) to compile and maintain the information submitted to EPA on such facilities under the provisions listed in section 120(c) of CERCLA; and (3) to provide a mechanism to make the information available to the public.

The initial list of Federal facilities to be included on the docket was published on February 12, 1988 (53 FR 4280). Updates of the docket have been published on November 16, 1988 (54 FR 46364); December 15, 1989 (54 FR 51472); August 22, 1990 (55 FR 34492); September 27, 1991 (56 FR 49328); December 12, 1991 (56 FR 64898); July 17, 1992 (57 FR 31758); February 5, 1993 (58 FR 7298); November 10, 1993 (58 FR 59790); April 11, 1995 (60 FR 18474); June 27, 1997 (62 FR 34779); November 23, 1998 (63 FR 64806); June 12, 2000 (65 FR 36994); December 29, 2000 (65 FR 83222), and October 2, 2001 (66 FR 50185). This notice constitutes the fifteenth update of the docket.

Today's notice is divided into three sections: (1) Additions, (2) deletions, and (3) corrections. The additions section lists newly identified facilities that have been reported to EPA since the last update and that now are being included on the docket. The deletions section lists facilities that EPA is deleting from the docket. The corrections section lists changes in information about facilities already listed on the docket.

The information submitted to EPA on each Federal facility is maintained in the docket repository located in the EPA Regional office of the Region in which the facility is located (see 53 FR 4280 (February 12, 1988)) for a description of the information required under those provisions). Each repository contains the documents submitted to EPA under the reporting provisions and correspondence relevant to the reporting provisions for each facility. Contact the following docket coordinators for information on Regional docket repositories:

Gerardo Mill(á)n-Ramos (HBS), US EPA Region 1 #1 Congress St., Suite 1100, Boston, MA 02114-2023 (617) 918-1377.

Philip Ofosu (6SF-RA), US EPA Region 6, 1445 Ross Avenue, Dallas, TX 75202-2733, (214) 665-3178.

Helen Shannon (ERRD), US EPA Region 2, 290 Broadway, 18th Floor, New York, NY 10007-1866, (212) 637-4260.

D. Karla Asberry (FFSC), US EPA Region 7, 726 Minnesota Avenue, Kansas City, KS 66101, (913) 551-7595.

Alida Karas (ERRD), US EPA Region 2, 290 Broadway, New York, NY 10007-1866, (212) 637-4276.

Stan Zawistowski (EPR-F), US EPA Region 8, 999 18th Street, Suite 500, Denver, CO 80202-2466, (303) 312-6255.

Cesar Lee (3HS50), US EPA Region 3, 841 Chestnut Bg., Philadelphia, PA 19107 (215) 814-3205.

Philip Armstrong (SFD-9-1), US EPA Region 9, 75 Hawthorne Street, San Francisco, CA 94105, (415) 947-3520.

Gena Townsend (4WD-FFB), US EPA Region 4, 61 Forsyth St., SW, Atlanta, GA 30303, (404) 562-8538.

Deborah Leblang (ECL-115), US EPA Region 10, 1200 Sixth Avenue, Seattle, WA 98101, (206) 553-0115.

Laura Ripley (SE-5J), US EPA Region 5, 77 W. Jackson Blvd., Chicago, IL 60604, (312) 886-6040.

Monica Lindeman (ECL, SACU2), US EPA Region 10, 1200 Sixth Avenue, Seattle, WA 98101, (206) 553-5113.

2.0 Revisions of the Previous Docket

Following is a discussion of the revisions of the previous docket, including additions, deletions, and corrections.

2.1 Additions

Today, thirty facilities are being added to the docket, primarily because of new information obtained by EPA (for example, recent reporting of a facility pursuant to RCRA sections 3005, 3010, or 3016 or CERCLA section 103). SARA, as amended by the Defense Authorization Act of 1997, specifies that, for each Federal facility that is included on the docket during an update, evaluation shall be completed in accordance with a reasonable schedule.

Of the thirty facilities being added to the docket, none are facilities that have reported to the NRC the release of a reportable quantity (RQ) of a hazardous substance. Under section 103(a) of CERCLA, a facility is required to report to the NRC the release of a hazardous substance in a quantity that equals or exceeds the established RQ. Reports of releases received by the NRC, the U.S. Coast Guard (USCG), and EPA are transmitted electronically to the Transportation Systems Center at the U.S. Department of Transportation (DOT), where they become part of the Emergency Response Notification System (ERNS) database. ERNS is a national computer database and retrieval system that stores information on releases of oil and hazardous substances. Facilities being added to the docket and facilities already listed on the docket for which an ERNS report has been filed are identified by the notation “103(a)” in the “Reporting Mechanism” column.

It is EPA's policy generally not to list on the docket facilities that are small-quantity generators (SQG) and that have never generated more than 1,000 kilograms (kg) of hazardous waste in any single month. If a facility has generated more than 1,000 kg of hazardous waste in any single month (that is, if the facility is an episodic generator), it will be added to the docket. In addition, facilities that are SQGs and have reported releases under CERCLA section 103 or hazardous waste activities pursuant to RCRA section 3016 will be listed on the docket and will undergo site evaluation activities, such as a PA and, when appropriate, an SI. All such facilities will be listed on the docket, whether or not they are SQGs pursuant to RCRA. As a result, some of the facilities that EPA is adding to the docket today are SQGs that had not been listed on the docket but that have reported releases or hazardous waste activities to EPA under another reporting provision.

In the process of compiling the documents for the Regional repositories, EPA identified a number of facilities that had previously submitted PA reports, SI reports, Department of Defense (DoD) Installation Restoration Program (IRP) reports, or reports under another Federal agency environmental restoration program, but do not appear to have notified EPA under CERCLA section 103. Section 120(c)(3) of CERCLA requires that EPA include on the docket, among other things, information submitted under section 103. In general, section 103 requires persons in charge of a facility to provide notice of certain releases of hazardous substances. The reports under various Federal agency environmental restoration programs may contain information regarding releases of hazardous substances similar to that provided pursuant to section 103. EPA believes that CERCLA section 120(c) authorizes the agency to include on the docket a facility that has provided information to EPA through documents such as a report under a Federal agency environmental restoration program, regardless of the absence of section 103 reporting. Therefore, some of the facilities that EPA is adding today are being placed on the docket because they have submitted the documents described above that contain reports of releases of hazardous substances.

EPA also includes privately owned, government-operated (POGO) facilities on the docket. CERCLA section 120(c) requires that the docket contain information submitted under RCRA sections 3005, 3010, and 3016 and CERCLA section 103, all of which impose duties on operators as well as owners of facilities. In addition, other subsections of CERCLA section 120 refer to facilities “owned or operated” by an agency or other instrumentality of the Federal government. That terminology clearly includes facilities that are operated by the Federal government, even if they are not owned by it. Specifically, CERCLA section 120(e), which sets forth the duties of the Federal agencies after a facility has been listed on the NPL, refers to the Federal agency that “owns or operates” the facility. In addition, the primary basis for assigning responsibility for conducting PAs and SIs, as required when a facility is listed on the docket, is Executive Order 12580, which assigns that responsibility to the Federal agency having “jurisdiction, custody, or control” over a facility.

2.2 Deletions

Today, thirteen facilities are being deleted from the docket for various reasons, such as incorrect reporting of hazardous waste activity, change in ownership, and exemption as an SQG under RCRA (40 CFR 262.44). Facilities being deleted no longer will be subject to the requirements of CERCLA section 120(d).

2.3 Corrections

Changes necessary to correct the previous docket were identified by both EPA and Federal agencies. The changes needed varied from simple changes in addresses or spelling to corrections of the recorded name and ownership of a facility. In addition, some changes in the names of facilities were made to establish consistency in the docket. Many new entries are simply corrections of typographical errors. For each facility for which a correction has been entered, the original entry (designated by an “O”), as it appeared in the February 12, 1988 notice or subsequent updates, is shown directly below the corrected entry (designated by a “C”) for easy comparison.

3.0 Process for Compiling the Updated Docket

In compiling the newly reported facilities for the update being published today, EPA extracted the names, addresses, and identification numbers of facilities from four EPA databases—ERNS, the Biennial Inventory of Federal Agency Hazardous Waste Activities, the Resource Conservation and Recovery Information System (RCRIS), and the Comprehensive Environmental Response, Compensation, and Liability Information System (CERCLIS)—that contain information about Federal facilities submitted under the four provisions listed in CERCLA section 120(c).

Extensive computer checks compared the current docket list with the information obtained from the databases identified above to determine which facilities were, in fact, newly reported and qualified for inclusion on the update. In spite of the quality assurance efforts EPA has undertaken, state-owned or privately owned facilities that are not operated by the Federal government may have been included. Such problems are caused by procedures historically used to report and track data on Federal facilities; EPA is working to resolve them. Representatives of Federal agencies are asked to write to EPA's docket coordinator at the following address if revisions of this update information are necessary: Augusta K. Wills, Federal Agency Hazardous Waste Compliance Docket Coordinator, Federal Facilities Enforcement Office (Mail Code 2261A), U.S. Environmental Protection Agency, 1200 Pennsylvania Avenue NW., Washington, DC 20004.

4.0 Facilities Not Included

As explained in the preamble to the original docket (53 FR 4280), the docket does not include the following categories of facilities (note, however, that any of these types of facilities may, when appropriate, be listed on the NPL):

• Facilities formerly owned by a Federal agency and now privately owned will not be listed on the docket. However, facilities that are now owned by another Federal agency will remain on the docket and the responsibility for conducting PAs and SIs will rest with the current owner.

• SQGs that have never produced more than 1,000 kg of hazardous waste in any single month and that have not reported releases under CERCLA section 103 or hazardous waste activities under RCRA section 3016 will not be listed on the docket.

• Facilities that are solely transporters, as reported under RCRA section 3010, will not be listed on the docket.

5.0 Facility Status Reporting

EPA has expanded the docket database to include information on the NFRAP status of listed facilities. Indicating NFRAP status allows easy identification of facilities that, after submitting all necessary site assessment information, were found to warrant no further involvement on the part of EPA at the time of the status change. Accordingly, the docket database includes the following facility status codes:

U=Undetermined

N=No further remedial action planned (NFRAP)

NFRAP is a term used in the Superfund site assessment program to identify facilities for which EPA has found that currently available information indicates that listing on the NPL is not likely and further assessment is not appropriate at the time. NFRAP status does not represent an EPA determination that no environmental threats are present at the facility or that no further environmental response action of any kind is necessary. NFRAP status means only that the facility does not appear, from the information available to EPA at this time, to warrant listing on the NPL and that, therefore, EPA anticipates no further involvement by EPA in site assessment or cleanup at the facility. However, additional CERCLA response actions by the Federal agency that owns or operates the facility, whether remedial or removal actions, may be necessary at a facility that has NFRAP status. The status information contained in the docket database is the result of Regional evaluation of information taken directly from CERCLIS. (CERCLIS is a database that helps EPA Headquarters and Regional personnel manage sites, programs, and projects. It contains the official inventory of all CERCLA (NPL and non-NPL) sites and supports all site planning and tracking functions. It also integrates financial data from preremedial, remedial, removal and enforcement programs.) The status information was taken from CERCLIS and sent to the Regional docket coordinators for review. The results of those reviews were incorporated into the status field in the docket database. Subsequently, an updated list of facilities having NFRAP status (those for which an “N” appears in the status field) was generated; the list of updates since the previous publication of the docket is being published today.

Important limitations apply to the list of facilities that have NFRAP status. First, the information is accurate only as of January 31, 2002. Second, a facility's status may change at any time because of any number of factors, including new site information or changing EPA policies. Finally, the list of facilities that have NFRAP status is based on Regional review of CERCLIS data, is provided for information purposes only, and should not be considered binding upon either the Federal agency responsible for the facility or EPA.

The status information in the docket database will be reviewed and a new list of facilities classified as NFRAP will be published at each docket update.

6.0 Information Contained on Docket Listing

As discussed above, the update information below is divided into three separate sections. The first section is a list of new facilities that are being added to the docket. The second section is a list of facilities that are being deleted from the docket. The third section comprises corrections of information included on the docket. Each facility listed for the update has been assigned a code(s) that indicates a more specific reason(s) for the addition, deletion, or correction. The code key precedes the lists.

SARA, as amended by the Defense Authorization Act of 1997, specifies that, for each Federal facility that is included on the docket during an update, evaluation shall be completed in accordance with a reasonable schedule. Therefore, all facilities on the additions list to this fifteenth docket update must submit a PA and, if warranted, an SI to EPA. The PA must include existing information about a site and its surrounding environment, including a thorough examination of human, food-chain, and environmental targets, potential waste sources, and migration pathways. From information in the PA or other information coming to EPA's attention, EPA will determine whether a follow-up SI is required. An SI augments the data collected in a PA. An SI may reflect sampling and other field data that are used to determine whether further action or investigation is appropriate. This policy includes any facility for which there is a change in the identity of the responsible Federal agency. The reports should be submitted to the Federal facilities coordinator in the appropriate EPA Regional office.

The facilities listed in each section are organized by state and then grouped alphabetically within each state by the Federal agency responsible for the facility. Under each state heading is listed the name and address of the facility, the Federal agency responsible for the facility, the statutory provision(s) under which the facility was reported to EPA, and the correction code(s).

The statutory provisions under which a facility reported are listed in a column titled “Reporting Mechanism.” Applicable mechanisms are listed for each facility: for example 3010, 3016, and 103(c).

The complete list of Federal facilities that now make up the docket and the complete list of facilities classified as no further remedial action planned (NFRAP) are not being published today. However, the lists are available to interested parties and can be obtained at http://www.epa.gov/oeca/fedfac/oversight/oversight.html or by calling the HQ Docket Coordinator at (202) 564-2468. As of today, the total number of Federal facilities that appear on the docket is 2,231.

Dated: June 24, 2002.
Elliott J. Gilberg,
Associate Director, Federal Facilities Enforcement Office.

Docket Revisions

Categories of Revisions for Docket Update by Correction Code

Categories for Deletion of Facilities

(1) Small-Quantity Generator

(2) Not Federally Owned

(3) Formerly Federally Owned

(4) No Hazardous Waste Generated

(5) (This correction code is no longer used.)

(6) Redundant Listing/Site on Facility

(7) Combining Sites Into One Facility/Entries Combined

(8) Does Not Fit Facility Definition

(9) (This correction code is no longer used.)

(10) (This correction code is no longer used.)

(11) (This correction code is no longer used.)

(12) (This correction code is no longer used.)

(13) (This correction code is no longer used.)

(14) (This correction code is no longer used.)

Categories for Addition of Facilities

(15) Small-Quantity Generator With Either a RCRA 3016 or CERCLA 103 Reporting Mechanism

(16) One Entry Being Split Into Two/Federal Agency Responsibility Being Split

(17) New Information Obtained Showing That Facility Should Be Included

(18) Facility Was a Site on a Facility That Was Disbanded; Now a Separate Facility

(19) Sites Were Combined Into One Facility

(19A) New Facility

Categories for Corrections of Information About Facilities

(20) Reporting Provisions Change

(20A) Typo Correction/Name Change/Address Change

(21) Changing Responsible Federal Agency (New Responsible Federal Agency Must Submit proof of previously performed PA, which is subject to approval by EPA)

(22) Changing Responsible Federal Agency and Facility Name (New Responsible Must Submit proof of previously performed PA, which is subject to approval by EPA)

(23) New Reporting Mechanism Added at Update

(24) Reporting Mechanism Determined to Be Not Applicable After Review of Regional Files

Note: Further information on definitions of categories can be obtained by calling Augusta K. Wills, the HQ Docket Coordinator at (202) 564-2468.

Federal Agency Hazardous Waste Compliance Docket Update #15 Additions
Facility name | Address | City | State | Zip Code | Agency | Reporting mechanism | Code
FS-TONGASS NF: EAST 12 MILE SITE | W SIDE OF FS RD 1220, 35 MI SE OF CRAIG, T75S R83E S13, COPPER RIVER MERIDIAN | CRAIG | AK | 99927 | AGRICULTURE | 103C | 19A
US ARMY AVIATION CENTER CAIRNS | ALABAMA HIGHWAY 85 | DALEVILLE | AL | 36322-5000 | ARMY | 3010 | 19A
USPS HILLCREST STATION | 300 E HILLCREST BLVD | INGLEWOOD | CA | 90301-9998 | POSTAL SERVICE | 3010 | 19A
NATIONAL WIND TECHNOLOGY CENTER | 18200 STATE HIGHWAY 128 | GOLDEN | CO | 80403 | ENERGY | 3016 | 19A
US NATIONAL PHOTO INTERPRETATION CENTER | 1ST & M STREET, SE | WASHINGTON | DC | 20374 | NATIONAL IMAGERY AND MAPPING AGENCY | 3010 | 19A
AMES LAB #1 | 1915 N. SCHOLL ROAD, IOWA STATE UNIVERSITY | AMES | IA | 50011-3020 | ENERGY | 3016 | 19A
LEWIS UNIVERSITY CORRECTIONAL CENTER | 1125 N COLLINS | JOLIET | IL | 60436 | JUSTICE | 3010 | 19A
US GOVERNMENT DEA | 1716 W PERISHING RD | CHICAGO | IL | 60609 | JUSTICE | 3010 | 19A
FORT SHERIDAN NAVAL PROPERTY | FORT SHERIDAN NAVAL PROPERTY | FORT SHERIDAN | IL | 60037 | NAVY | 3010 | 19A
ARMED FORCES INSTITUTE OF PATHOLOGY | 16050 INDUSTRIAL DRIVE, STE 100 | GAITHERSBURG | MD | 20877 | ARMY | 3010 | 19A
GASCONADE (EX) BOAT YARD | CONFLUENCE OF GASCONADE AND MISSOURI RIVER | GASCONADE | MO | 65036 | CORPS OF ENGINEERS, CIVIL | 103c | 19A
US MEDICAL CENTER FEDERAL PRISON SPRINGFIELD | 1900 W SUNSHINE | SPRINGFIELD | MO | 65801 | JUSTICE | 103c | 19A
KIRKSVILLE (EX) AFS P-64 | 6 MILES NORTH OF KIRKSVILLE, WEST | KIRKSVILLE | MO | 63501 | TRANSPORTATION | 103c | 19A
STANLEY R MICKELSEN SAFEGUARD COMPLEX-(RSL-4) REMOTE SPRINT LA | 1 MILE SOUTHWEST OF FAIRDALE | FAIRDALE | ND | 58205 | AIR FORCE | 103c | 19A
STANLEY R MICKELSEN SAFEGUARD COMPLEX—(RSL-1) REMOTE SPRING LA | 3 MILES EAST OF HAMPDEN | HAMPDEN | ND | 58338 | AIR FORCE | 103c | 19A
STANLEY R MICKELSEN SAFEGUARD COMPLEX—(RSL-2) REMOTE SPRINT LA | 6 MILES NORTH OF LANGDON | LANGDON | ND | 58249 | AIR FORCE | 103c | 19A
STANLEY R MICKELSEN SAFEGUARD COMPLEX—(RSL-3) REMOTE SPRINT LA | 19 MILES EAST OF LANGDON | LANGDON | ND | 58249 | AIR FORCE | 103c | 19A
HALLAM NUCLEAR POWER FACILITY | NE ¼ SEC 19 T7N R6E | HALLAM | NE | 68368 | ENERGY | 103c | 19A
NEW JERSEY AIR NATIONAL GUARD 177FW | 400 LANGLEY RD | EGG HARBOR TWP | NJ | 08234-9500 | AIR FORCE | 3010 | 19A
MAJ J O'DONOVAN AFR CENTER | 90 N MAIN AVE | ALBANY | NY | 12203 | ARMY | 3010 | 19A
USCG—STATION JONES BEACH | WESTEND BOAT BASIN OFF OCEAN | FREEPORT | NY | 11520-5001 | TRANSPORTATION | 3010 | 19A
BLM-BALM CREEK—POORMAN MINE COMPLEX | E SIDE OF MOTHERLOAD RD, 6 MI NE OF KEATING, T7S R43E S32, W.M., +44°55′01″ N, −117° 29′25″ W | BAKER CITY | OR | 97814 | INTERIOR | 103c | 19A
FORT DIX TACONY WAREHOUSE | 1500 PRINCETON AVE | PHILADELPHIA | PA | 19124 | ARMY | 103c | 19A
NATIONAL ENERGY TECHNOLOGY LABORATORY—PITTSBURGH | POB 10940 | PITTSBURGH | PA | 15236 | ENERGY | 3016 | 19A
APPALACHIAN SMELTING AND REFINERY | SOUTH HOLSTON LAKE | BRISTOL | TN | 37620 | TENNESSEE VALLEY AUTHORITY | 103c | 19A
TENNESSEE VALLEY AUTHORITY | HIGHWAY 69A | BIG SANDY | TN | 38221 | TENNESSEE VALLEY AUTHORITY | 3010 | 19A
TVA WILSON 500 KV SUBSTATION | 2280 BECKWITH ROAD | MOUNT JULIET | TN | 37122 | TENNESSEE VALLEY AUTHORITY | 3010 | 19A
US COAST GUARD (OUACHITA) SHORESIDE | 3551 OLD HARRISON PIKE | CHATTANOOGA | TN | 37416-2825 | TRANSPORTATION | 3010 | 19A
TOOELE ARMY DEPOT (NORTH AREA) | 3 MI S OF TOOELE ON HWY 36 | TOOELE | UT | 84074 | ARMY | 103c | 16
NAVAL SECURITY GROUP ACTIVITY SUGAR GROVE—OPERATIONAL AREA | RANDALL ROAD, OFF STATE ROAD 21 | SUGAR GROVE | WV | 26815 | NAVY | 103c | 16

Federal Agency Hazardous Waste Compliance Docket Update #15 Deletions
Facility name | Address | City | State | Zip Code | Agency | Reporting mechanism | Code
BRUNSWICK FACILITY | ROUTE 11 | BRUNSWICK | GA | 30365 | EPA | 103a | 2
CHICAGO SITE | CALUMET HARBOR | CHICAGO | IL | 60606 | CORPS OF ENGINEERS, CIVIL | 3010 | 4
FS-ROBINS DISPOSAL AREA |  | WATERSMEET | MI |  | AGRICULTURE | 103a | 6
FAA-PECK VOR | 2250 E PECK RD | CROSWELL | MI | 48422 | TRANSPORTATION | 3010 | 4
USEDA CO USACE | 812 FIRST AVE | TWO HARBORS | MN | 55616 | ARMY | 3010 | 3
BRAINERD FOUNDRY | 801 SOUTH 10TH STREET | BRAINERD | MN | 56401 | COMMERCE | 3010 3016 103c | 3
OTTATI & GOSS SUPERFUND SITE | ROUTE 125 | KINGSTON | NH | 03848 | EPA | 3010 | 2
7TH BATTALION HAWK | 204 FRONTAGE RD | RIO RANCHO | NM | 87124 | ARMY | 3010 | 3
FORMER LORDSTOWN ORDNANCE DEPOT | 5232 TOD WS NO 11 | WARREN | OH | 44481 | GENERAL SERVICES ADMINISTRATION | 3010 | 3
NPS-CUYAHOGA VALLEY NATIONAL RECREATION AREA | 15610 VAUGHN ROAD | BRECKSVILLE | OH | 44141 | INTERIOR | 3010 3016 103c | 7
AEROQUIP INOAC | 1410 MOTOR DR | FREMONT | OH | 43420 |  | 3010 | 2
ADMIRAL OLIN E TEAGUE CENTER | 1901 S 1ST ST | TEMPLE | TX | 76504 | VETERANS AFFAIRS | 3010 | 1
RUSK COUNTY VETERANS MEMORIAL ARMY RESERVE CENTER | 819 W SUMMIT AVENUE | LADY SMITH | WI | 54848 | ARMY | 3010 | 1

Federal Agency Hazardous Waste Compliance Docket Update #15 Corrections
Facility name | Address | City | State | Zip Code | Agency | Reporting mechanism | Code
ᶜ ALASKA TOK FUEL TERMINAL | 7 MI W OF TOK, ALASKA HWY 2 | TOK | AK | 99780 | ARMY | 3010 | 20A
ᵒ ALASKA TOK FUEL TERMINAL | 7 MI W OF TAK ALASKA HWY 2 5TH ST BLDG. 790 | TOK | AK | 99780 | ARMY | 3010 |
ᶜ BLM-BOSTIK INC HOOSIER CREEK | 80 MI NW OF FAIRBANKS, 65°26′54″ N, 150°04′31″ W | RAMPART | AK | 99767 | INTERIOR | 3010 103c | 20A, 23
ᵒ BLM-BOSTIK INC HOOSIER CREEK | 65D26M54SN, 150D04M31SW | RAMPART | AK | 99767 | INTERIOR | 3010 |
ᶜ BLM-ICY CAPE DEW LINE SITE | 50 MI SW OF WAINWRIGHT 70°18′00″ N, 161°55′00″ W | WAINWRIGHT | AK | 99782 | INTERIOR | 103c 3010 | 20A
ᵒ BLM-ICY CAPE DEW LINE SITE | 50 MI SW OF WAINWRIGHT | WAINWRIGHT | AK | 99782 | INTERIOR | 103c 3010 |
ᶜ BLM-SOURDOUGH LITTLE BEAR CAMP AKA SOURDOUGH ARMY CAMP | 35 MI N OF GLENNALLEN, W OF RICHARDSON HWY | GLENNALLEN | AK | 99588 | INTERIOR | 103c | 20A
ᵒ BLM-SOURDOUGH LITTLE BEAR CAMP | RICHARDSON HWY 35 MI N OF GLENNALLEN | GLENALLEN | AK | 99588 | INTERIOR | 103c |
ᶜ FWS-ALASKA MARITIME NWR: TIGALDA ISLAND AWS | 30 MI E OF AKUTAN, 54°04′48″ N, 165° 03′27″ W | AKUTAN | AK | 99553 | INTERIOR | 103c | 20A
ᵒ FWS-ALASKA MARITIME NWR: TIGALDA ISLAND AWS | 30 MI E OF AKUTAN, 54°04′48″ N, 165°03′27″ W | AKUTAN | AK | 99553 | INTERIOR | 103c |
ᶜ NPS-KATMAI NP: BROOKS CAMP | 32 MI E OF KING SALMON, NAKNEK LAKE, 55°33′17″ N, 155°46′38″ W | KING SALMON | AK | 99613 | INTERIOR | 103c 3016 | 20A
ᵒ NPS-KATMAI NP: BROOKS CAMP | 30 MI W OF CY, NAKNEK LAKE | KING SALMON | AK |  | INTERIOR | 103c 3016 |
ᶜ NPS-WRANGELL ST ELIAS NP&P: MALASPINA DRILLING MUD SITE | T24S R32E S31, 59°42′30″ N, 140°37′30″ W | GLENNALLEN | AK | 99588 | INTERIOR | 103c 3016 | 20A
ᵒ NPS-WRANGELL ST ELIAS NP&P: MALASPINA DRILLING MUD SITE | T24S R32E S31 | GLENALLEN | AK | 99588 | INTERIOR | 103c 3016 |
ᶜ FAA-BIG DELTA STATION | FORT GREELY AIRPORT, 63°59′40″ N, 145°43′17″ W | DELTA JUNCTION | AK | 99737 | TRANSPORTATION | 103c 3016 | 20A
ᵒ FAA-BIG DELTA STATION | FORT GREELY AIRPORT | DELTA JUNCTION | AK | 99737 | TRANSPORTATION | 103c 3016 |
ᶜ U.S. ARMY AVIATION CENTER | 114 NOVOSEL STREET BETWEEN HIGHWAYS 134 AND 51 | FORT RUCKER | AL | 36362-5000 | ARMY | 3005 3010 3016 103c | 20A
ᵒ AVIATION CENTER AND FORT RUCKER | BLDG 1404 | FORT RUCKER | AL | 36362-5000 | ARMY | 3005 3010 3016 103c |
ᶜ LITTLE ROCK AIR FORCE BASE | 4001 THOMAS AVE | LITTLE ROCK AFB | AR | 72099-5005 | AIR FORCE | 3005 3010 3016 103c 103a | 20A
ᵒ LITTLE ROCK AIR FORCE BASE | 314 CSG/CC | LITTLE ROCK AFB AR | AR | 72099 | AIR FORCE | 3005 3010 3016 103c 103a |
ᶜ ARIZONA ARMY NATIONAL GUARD FLORENCE RANGE | 1001 N FLORENCE BLVD | FLORENCE | AZ | 85232 | ARMY | 103c | 20A
ᵒ FLORENCE RANGE |  | FLORENCE | AZ |  | ARMY | 103c |
ᶜ LAAFB-FORT MACARTHUR ANNEX | 2400 PACIFIC AVENUE | SAN PEDRO | CA | 90731 | AIR FORCE | 3016 103c | 23
ᵒ LAAFB-FORT MACARTHUR ANNEX | 2400 PACIFIC AVENUE | SAN PEDRO | CA | 90731 |  | 3016 |
ᶜ SAN PEDRO DEFENSE FUEL SUPPLY CENTER | 3171 N. GAFFEY STREET | SAN PEDRO | CA | 90731 | DEFENSE LOGISTICS AGENCY | 3010 3016 103c 103a | 23
ᵒ SAN PEDRO DEFENSE FUEL SUPPLY CENTER | 3171 N. GAFFEY STREET | SAN PEDRO | CA | 90731 | DEFENSE LOGISTICS AGENCY | 3010 3016 103c |
ᶜ LAWRENCE LIVERMORE NATIONAL LABORATORY-SITE 300 | CORRAL HOLLOW ROAD | TRACY | CA | 95376 | ENERGY | 3005 3010 3016 103c | 20A
ᵒ LAWRENCE LIVERMORE NATIONAL LABORATORY-SITE 300 | CORRAL HOLLOW ROAD | TRACY | CA | 94550 | ENERGY | 3005 3010 3016 103c |
ᶜ STANFORD LINEAR ACCELERATOR CENTER | 2575 SAND HILL ROAD | MENLO PARK | CA | 94025 | ENERGY | 3010 3016 103c 103a | 20A
ᵒ STANFORD LINEAR ACCELERATOR CENTER | 2575 SANDHILL ROAD. | MENLO PARK | CA | 94305 | ENERGY | 3010 3016 103c 103a |
ᶜ FORMER LOWRY AFB TITAN MISSILE SITE 1 COMPLEX 2A | 5 MILES SOUTH OF EAST QUINCY AV AND BRICK CENTER ROAD | AURORA | CO | 80137 | AIR FORCE | 103c | 20A
ᵒ FORMER LOWRY AFB TITAN MISSILE SITE 1 COMPLEX 2A | 5 MILES SOUTH OF EAST QUINCY AV AND BRICK CENTER ROAD | AURORA | CO | 80137 | AIR FORCE | 103c |
ᶜ NATIONAL RENEWABLE ENERGY LABORATORY | 1617 COLE BLVD. | GOLDEN | CO | 80401 | ENERGY | 3005 3010 3016 103c | 20A
ᵒ SOLAR ENERGY RESEARCH INSTITUTE | 1617 COLE BLVD. | GOLDEN | CO | 80401 | ENERGY | 3005 3010 3016 103c |
ᶜ ROCKY FLATS ENVIRONMENTAL TECHNOLOGY SITE | 1808 HIGHWAY 93, UNIT A | GOLDEN | CO | 80403 | ENERGY | 3005 3010 3016 103c 103a | 20A
ᵒ ROCKY FLATS PLANT | HWY. 93 BETWEEN GOLDEN & BOULDER | GOLDEN | CO | 80402 | ENERGY | 3005 3010 3016 103c 103a |
ᶜ WAPA-MONTROSE POWER OPERATIONS CENTER | 1800 S. RIO GRANDE AVE. | MONTROSE | CO | 81401 | ENERGY | 103c 3010 3016 | 20A, 23
ᵒ WAPA-POWER OPERATIONS | 1800 S. RIO GRANDE AVE | MONTROSE | CO | 81401 | ENERGY | 103c 3010 |
ᶜ HUBERT H. HUMPHREY BUILDING | 200 INDEPENDENCE AVENUE, SW | WASHINGTON | DC | 20201 | GENERAL SERVICES ADMINISTRATION | 3016 103c | 20A, 21
ᵒ HUBERT HUMPHREY BUILDING | 200 INDEPENDENCE AVENUE, S.W. | WASHINGTON | DC | 20024 | HEALTH AND HUMAN SERVICES | 3016 103c |
ᶜ ANACOSTIA NAVAL STATION | 2701 SOUTH CAPITOL STREET SW | WASHINGTON | DC | 20374 | NAVY | 3010 103c 3016 | 20A
ᵒ ANACOSTIA NAVAL STATION | SOUTH CAPITAL ST/ANACOSTIA DR | WASHINGTON | DC | 20374 | NAVY | 3010 103c 3016 |
ᶜ FORT GILLEM | 4653 N SECOND ST | FOREST PARK | GA | 30297-5000 | ARMY | 3005 3010 3016 103c | 20A
ᵒ FORT GILLEM | ATTN AFZK-EH-C | FOREST PARK | GA | 30330 | ARMY | 3005 3010 3016 103c |
ᶜ FORT STEWART | 24TH INFANTRY DIV AFZP-DEN-E | FORT STEWART | GA | 31314 | ARMY | 3005 3010 3016 103c 103a | 23
ᵒ FORT STEWART | 24TH INFANTRY DIV AFZP-DEN-E | FORT STEWART | GA | 31314 | ARMY | 3005 3010 3016 103c |
ᶜ NAVACTS ORDNANCE ANNEX GUAM | APRA HBR HTS AREA BY FENA RESV | APRA HARBOR | GU | 96910 | NAVY | 103c | 20A
ᵒ GUAM NAVAL MAGAZINE | APRA HBR HTS AREA BY FENA RESV | APRA HARBOR | AQ | 96910 | NAVY | 103c |
ᶜ AMES LAB #2 | SPEDDING HALL, METALS DEVELOPMENT, WILHELM HALL & TASF | AMES | IA | 50011-3400 | ENERGY | 103c 3016 3005 3010 | 20A
ᵒ AMES LABORATORY-APPLIED SCIENCE CENTER | 109 OFFICE & LAB, ISU | AMES | IA | 50011 | ENERGY | 103c 3016 3005 3010 |
ᶜ IDAHO NATIONAL ENGINEERING AND ENVIRONMENTAL LABORATORY (INEEL) | US HWY 20/26, 40 MI WEST OF IDAHO FALLS | IDAHO FALLS | ID | 83401 | ENERGY | 3005 3010 3016 103c 103a | 20a
ᵒ IDAHO NATIONAL ENGINEERING AND ENVIRONMENTAL LABORATORY | US HWY 20/26, 40 MI WEST OF IDAHO FALLS | SCOVILLE | ID | 83401 | ENERGY | 3005 3010 3016 103c 103a |
ᶜ CHANUTE AIR FORCE BASE | 3345 CES AFB | RANTOUL | IL | 61868 | AIR FORCE | 3005 3010 3016 103c | 20A
ᵒ CHANUTE AIR FORCE BASE | OL-B AFBCA 1 AVIATION CENTER DRIVE, SUTE 101 | RANTOUL | IL | 61868 | AIR FORCE | 3005 3010 3016 103c |
ᶜ ROCK ISLAND ARSENAL | RODMAN AVE | ROCK ISLAND | IL | 61299-5000 | ARMY | 3005 1010 3016 103c | 20A
ᵒ ROCK ISLAND ARSENAL | ARSENAL ISLAND ROCK ISLAND COUNTY | ROCK ISLAND | IL | 61201 | ARMY | 3005 3010 3016 103c |
ᶜ NAVAL TRAINING CENTER GREAT LAKES | PUBLIC WORKS CENTER BUILDING 1A | GREAT LAKES | IL | 60088-5600 | NAVY | 3005 3010 3016 103c 103a | 20A, 23
ᵒ NAVAL TRAINING CENTER GREAT LAKES | 2601 PAUL JONES STREET | GREAT LAKES | IL | 60008 | NAVY | 3005 3010 3016 103c |
ᶜ MCCONNELL AIR FORCE BASE | 53000 HUTCHINSON STE 109 | WICHITA | KS | 67221-3617 | AIR FORCE | 3005 3010 3016 103c | 20A
ᵒ MCCONNELL AIR FORCE BASE | 2801 S ROCK RD | WICHITA | KS | 67210 | AIR FORCE | 3005 3010 3016 103c |
ᶜ PADUCAH GASEOUS DIFFUSION PLANT | 5600 HOBBS ROAD | WEST PADUCAH | KY | 42086 | ENERGY | 3005 3010 3016 103a 103c | 20A
ᵒ PADUCAH GASEOUS DIFFUSION PLANT | PO BOX 1410 HOBBS ROAD | PADUCAH | KY | 42001 | ENERGY | 3005 3010 3016 103a 103c |
ᶜ FORT HOLABIRD CRIME RECORDS CENTER | CORNER OF OAKLAND AND DETROIT AVENUE | BALTIMORE | MD | 21222 | ARMY | 103c | 20A
ᵒ FORT HOLABIRD CRIME RECORDS CENTER | CORNER OF OAKLAND AND DETROIT AVENUE | BALTIMORE | MD | 21222 |  | 103c |
ᶜ FORT LEONARD WOOD, U.S. ARMY MANEUVER SUPPORT CENTER | DIRECTORATE OF PUBLIC WORKS, 1334 FIRST STREET | FORT LEONARD WOOD | MO | 65473-8944 | ARMY | 3005 3010 3016 103c | 20A
ᵒ AIR TRAINING COMMAND-ENGINEER & FORT LEONARD WOOD | T44, PULASKI COUNTY | FORT LEONARD WOOD | MO | 65473 | ARMY | 3005 3010 3016 103c |
ᶜ NIKE BATTERY KANSAS CITY-30 INACTIVE | ROUTE KK | LONE JACK | MO | 64070 | ARMY | 103c 3016 | 20A, 21, 23
ᵒ NIKE BATTERY KANSAS CITY-30 INACTIVE | 2.5 MI S OF LONE JACK | PLEASANT HILL | MO | 64080 | DEFENSE | 103c |
ᶜ NAVAL AIR STATION MERIDIAN | 1155 ROSENBAUM AVENUE, STE 13 | MERIDIAN | MS | 39309-5003 | NAVY | 3010 103c | 20A
ᵒ MERIDIAN NAVAL AIR STATION | PUBLIC WORKS DEPARTMENT | MERIDIAN | MS | 39309 | NAVY | 3010 103c |
ᶜ FWS-GREAT SWAMP NATIONAL WILDLIFE REFUGE | 152 PLEASANT PLAINS ROAD | BASKING RIDGE | NJ | 07920-9615 | INTERIOR | 3016 103c 3010 | 20A
ᵒ FWS-GREAT SWAMP NATIONAL WILDLIFE REFUGE | RD 1, BOX 152 | BASKING RIDGE | NJ | 07920 | INTERIOR | 3016 103c 3010 |
ᶜ PLUM ISLAND ANIMAL DISEASE CENTER | ROUTE 25 | ORIENT POINT | NY | 11957 | AGRICULTURE | 3016 103c 3010 | 20A
ᵒ PLUM ISLAND ANIMAL DISEASE CENTER | PLUM ISLAND | ORIENT POINT | NY | 11957 | AGRICULTURE | 3016 103c 3010 |
ᶜ PORTSMOUTH GASEOUS DIFFUSION PLANT | 3930 U.S. ROUTE 23 SOUTH | PIKETON | OH | 45661 | ENERGY | 3005 3010 3016 103c 103a | 20A
ᵒ PORTSMOUTH GASEOUS DIFFUSION PLANT | US RTE 235 | PIKETON | OH | 45661 | ENERGY | 3005 3010 3016 103c 103a |
ᶜ KREJCI DUMP SITE | 814 W HINES HILL RD | BOSTON HEIGHTS | OH | 44264 | INTERIOR | 3010 3016 103c | 20, 20A
ᵒ KREJCI DUMP SITE | 814 HINES HILL RD | BOSTON HEIGHTS | OH | 44236 |  | 3010 |
ᶜ JOHN GLENN RESEARCH CENTER | 21000 BROOKPARK ROAD | CLEVELAND | OH | 44135 | NASA | 3010 3016 103a 103c | 20A
ᵒ GLENN RESEARCH CENTER AT LEWIS FIELD | 6100 BROOKPARK ROAD | CLEVELAND | OH | 44135 | NASA | 3010 3016 103a 103c |
ᶜ MCALESTER ARMY AMMUNITION PLANT | 1 C TREE ROAD | MCALESTER | OK | 74501-9002 | ARMY | 3005 3010 3016 103c 103a | 23
ᵒ MCALESTER ARMY AMMUNITION PLANT | 1 C TREE ROAD | MCALESTER | OK | 74501-9002 | ARMY | 3005 3010 3016 103c |
ᶜ THE DALLES DAM | RIVER MI 192, EXIT 88, I-84 4 MI E OF THE DALLES | THE DALLES | OR | 97058 | CORPS OF ENGINEERS, CIVIL | 3010 103c | 20A
ᵒ THE DALLES DAM | EXIT 88 | THE DALLES | OR | 97058 | CORPS OF ENGINEERS, CIVIL | 3010 103c |
ᶜ EASTERN REGIONAL RESEARCH CENTER | 600 EAST MERMAID LANE | WYNDMOOR | PA | 19038 | AGRICULTURE | 3010 103c 3016 | 20A
ᵒ WYNDMOOR | 600 E MERMAID LN | WYNDMOOR | PA | 19118 | AGRICULTURE | 3010 103c 3016 |
ᶜ CARLISLE ARMY BARRACKS | U.S. HIGHWAY 11 AND ASHBURN DRIVE | CARLISLE | PA | 17013 | ARMY | 103c 103a 3016 | 20A, 23
ᵒ CARLISLE ARMY BARRACKS | CARLISLE BARRACKS | CARLISLE | PA | 17013 | ARMY | 103c 103a |
ᶜ BETTIS ATOMIC POWER LABORATORY | 814 PITTSBURGH MCKEESPORT BLVD | WEST MIFFLIN | PA | 15122-0109 | ENERGY | 3005 3010 3016 103c | 20A
ᵒ BETTIS ATOMIC POWER LABORATORY | PO BOX 109 BETTIS RD | WEST MIFFLIN BOROUGH | PA | 15122-0109 | ENERGY | 3005 3010 3016 103c |
ᶜ PUERTO RICO ARMY NATIONAL GUARD—CAMP SANTIAGO | RD 1 KM 3.6—TRAINING SITE | SALINAS | PR | 00751 | ARMY | 103c 3010 3016 | 20A
ᵒ CAMP SANTIAGO | ROUTE 1 | SALINAS | PR | 00751 | ARMY | 103c 3010 3016 |
ᶜ SHAW AFB POINSETT RANGE | SC HWY 261 4 MILES OF | WEDGEFIELD | SC | 29168 | AIR FORCE | 3016 103c | 20A, 23
ᵒ POINSETT WEAPONS RANGE | 4 MILES S OF WEDGEFIELD SC | WEDGEFIELD | SC | 29152 | AIR FORCE | 3016 |
ᶜ WAPA-WATERTOWN SUBSTATION | 1 MI. E. OF I-29 | WATERTOWN | SD | 57201 | ENERGY | 3010 103c 3016 | 23
ᵒ WAPA-WATERTOWN SUBSTATION | 1 MI. E. OF I-29 | WATERTOWN | SD | 57201 | ENERGY | 3010 103c |
ᶜ MOORE AIR BASE | 6 MILES NORTH OF ALTON TEXAS, ROUTE 6017 | EDINBURG | TX | 78539 | AGRICULTURE | 103c 3016 | 20A, 23
ᵒ MOORE AIR BASE | RTE 3, BOX 1004, RM 55 | MCALLEN | TX | 78539 | AGRICULTURE | 103c |
ᶜ TOOELE ARMY DEPOT (SOUTH AREA) | HIGHWAY 36, 12 MI S OF TEAD-N | TOOELE | UT | 84074 | ARMY | 3005 3010 3016 103c 103a | 20A
ᵒ TOOELE ARMY DEPOT | STATE HWY. 36 | TOOELE | UT | 84074 | ARMY | 3005 3010 3016 103c 103a |
ᶜ FORT MONROE | 318 CORNOG LANE | FORT MONROE | VA | 23651-1110 | ARMY | 3010 3016 103c 103a | 20A, 23
ᵒ FORT MONROE | 1 POINT COMFORT | HAMPTON | VA | 23364 | ARMY | 3010 3016 103c |
ᶜ FORT MYER | 204 LEE AVE | FORT MYER | VA | 22211-1199 | ARMY | 3010 103c 3016 | 20A
ᵒ FORT MYER | US ARMY FT MYER | FORT MYER | VA | 22211 | ARMY | 3010 103c 3016 |
ᶜ U.S. ARMY COMBINED ARMS SUPPORT COMMAND AND FORT LEE | 1816 SHOP ROAD | FORT LEE | VA | 23801 | ARMY | 3005 3010 3016 103c | 20A
ᵒ FORT LEE | BLDG 6205 SHOP RD | FORT LEE | VA | 23875 | ARMY | 3005 3010 3016 103c |
ᶜ FS-OKANOGAN-WENATCHEE NF: LOWER WINTHROP COMPOUND | 19284 HWY 20, 300 W OF DOWNTOWN CY, +48.481111° N, -120.186668° W | WINTHROP | WA | 98862 | AGRICULTURE | 103c | 20A
o FS-OKANOGAN-WENATCHEE NF: WINTHROP LOWER COMPOUND | 19284 HWY 20, 300 FT W OF DOWNTOWN WINTHROP | WINTHROP | WA | 98862 | AGRICULTURE | 103c |
c FS-OKANOGAN-WENATCHEE NF: NORTH CASCADES SMOKE JUMPER BASE | 23 INTERCITY AIRPORT RD, 3 MI SE OF CY, +48.4206667° N,—120.1470000° W | WINTHROP | WA | 98862 | AGRICULTURE | 103c | 20A
o FS-OKANOGAN-WENATCHEE NF: NORTH CASCADES SMOKE JUMPER BASE | 23 INTERCITY AIRPORT RD, 3 MI SE OF WINTHROP | WINTHROP | WA | 98862 | AGRICULTURE | 103c |
c HANFORD SITE | HANFORD SITE | RICHLAND | WA | 99352 | ENERGY | 3005 3010 3016 103c 103a | 23
o HANFORD SITE | HANFORD SITE | RICHLAND | WA | 99352 | ENERGY | 3005 3010 3016 103c |
c VOLK FIELD | HWY 94 JUNEAU COUNTY | CAMP DOUGLAS | WI | 54618 | AIR FORCE | 3016 3010 103c | 20A
o CAMP DOUGLASS AIR NATIONAL GUARD BASE-OMS1 | HWY 94 JUNEAU COUNTY | CAMP DOUGLAS | WI | 54618 | AIR FORCE | 3016 3010 103c |
c NATIONAL ENERGY TECHNOLOGY LABORATORY—MORGANTOWN | 3610 COLLINS FERRY ROAD | MORGANTOWN | WV | 26507 | ENERGY | 3010 103c 3016 | 20A, 23
o MORGANTOWN ENERGY TECHNOLOGY CENTER | 3610 COLLINS FERRY RD | MORGANTOWN | WV | 26505 | ENERGY | 3010 103c |
c NAVAL SECURITY GROUP ACTIVITY SUGAR GROVE—MAIN BASE | 63 HEDRICK DR | SUGAR GROVE | WV | 26815-5000 | NAVY | 3010 3016 103c | 20A
o SUGAR GROVE NAVAL SECURITY GROUP ACTIVITY, LF #1 | 10 MI OFF RTE 33 | SUGAR GROVE | WV | 26815-0001 | NAVY | 3010 3016 103c |
c HIGH PLAINS GRASSLANDS RESEARCH STATION | 8404 HILDRETH ROAD | CHEYENNE | WY | 82009-8899 | AGRICULTURE | 3016 103c | 20A
o HIGH PLAINS GRASSLANDS RESEARCH STATION | 8408 HILDRETH ROAD | CHEYENNE | WY | 82009 | AGRICULTURE | 3016 103c |
c HOE CREEK UNDERGROUND COAL GASIFICATION PROJECT | 531 HOE CREEK ROAD | GILLETTE | WY | 82717 | ENERGY | 103c 3016 | 20A, 23
o HOE CREEK |  | GILLETTE | WY |  | ENERGY | 103c |
c ROCK SPRINGS OIL SHALE RETORT PROJECT | 392 PURPLE SAGE ROAD | ROCK SPRINGS | WY | 82901 | ENERGY | 103c 3016 | 20A, 23
o ROCK SPRINGS OIL SHALE RETORT PROJECT | 7 MI W OF ROCK SPRINGS | ROCK SPRINGS | WY | 82902 | ENERGY | 103c |
c WAPA-CASPER FIELD BRANCH | 5600 W. POISON SPIDER ROAD | MILLS | WY | 82644 | ENERGY | 103c 3016 | 20A, 23
o WAPA-CASPER FIELD BR | W OF MT VIEW ON SPIDER RD | MILLS | WY | 82644 | ENERGY | 103c |
c BLM-RAWLINS LANDFILL | P.O. BOX 953 | RAWLINS | WY | 82301 | INTERIOR | 103c | 20A
o BLM-RAWLINGS LANDFILL | P.O. BOX 953 | RAWLINS | WY | 82301 | INTERIOR | 103c |

Federal Agency Hazardous Waste Compliance Docket NFRAP Status Facilities Update
Facility name | Address | City | State | Zip Code | Agency | Reporting mechanism
BLM-BOSTIK INC HOOSIER CREEK | 80 MI NW OF FAIRBANKS, 65° 26′ 54″ N, 150° 04′ 31″ W | RAMPART | AK | 99767 | INTERIOR | 3010 103c
BLM-ICY CAPE DEW LINE SITE | 50 MI SW OF WAINWRIGHT, 70° 18′ 00″ N, 161° 55′ 00″ W | WAINWRIGHT | AK | 99782 | INTERIOR | 103c 3010
BLM-SOURDOUGH LITTLE BEAR CAMP AKA SOURDOUGH ARMY CAMP SITE | 35 MI N OF GLENNALLEN, W OF RICHARDSON HWY | GLENNALLEN | AK | 99588 | INTERIOR | 103c
FWS-ALASKA MARITIME NWR: TIGALDA ISLAND AWS | 30 MI E OF AKUTAN, 54° 04′ 48″ N, 165° 03′ 27″ W | AKUTAN | AK | 99553 | INTERIOR | 103c
NPS-KATMAI NP: BROOKS CAMP | 32 MI E OF KING SALMON, NAKNEK LAKE, 55° 33′ 17″ N, 155° 46′ 38″ W | KING SALMON | AK | 99613 | INTERIOR | 103c 3016
NPS-WRANGELL ST ELIAS NP&P: MALASPINA DRILLING MUD SITE | T24S R32E S31, 59° 42′ 30″ N, 140° 37′ 30″ W | GLENNALLEN | AK | 99588 | INTERIOR | 3016 103c
FAA-BIG DELTA STATION | FORT GREELY AIRPORT, 63° 59′ 40″ N, 145° 43″ 17″ W | DELTA JUNCTION | AK | 99737 | TRANSPORTATION | 3016 103c
MARTIN-GADSDEN AIR NATIONAL GUARD STATION | GADSDEN MUNICIPAL AIRPORT | GADSDEN | AL |  | AIR FORCE | 103c 3010
SHAVER LAKE LANDFILL | DINKEY CREEK ROAD | SHAVER LAKE | CA | 93664 | AGRICULTURE | 103c
BP-LITTLETON FEDERAL CORRECTION INSTITUTE | 9595 WEST QUINCY AVENUE | LITTLETON | CO | 80123 | JUSTICE | 103c
LONG ISLAND SOUND COAST GUARD GROUP | 120 WOODWARD AVE | NEW HAVEN | CT | 06512 | TRANSPORTATION | 3010 103c
OSCEOLA NATIONAL FOREST SITE 1 | HIGHWAY 100 | LAKE CITY | FL | 32055 | AGRICULTURE | 3016 103c
RUSSELL RESEARCH CENTER | 950 COLLEGE STATION ROAD | ATHENS | GA | 30613 | AGRICULTURE | 3016 3010
ARMY RESERVE PERSONNEL COMMAND WAREHOUSE | RTE 3 & NEIDRINGHAUS | GRANITE CITY | IL | 62040 | ARMY | 3010
WATERTOWN DAIRY | 6 MOORE RD | WAYLAND | MA | 01778 | AGRICULTURE | 3016 103c
WESTOVER AIR FORCE BASE | 439 CSG/DE | CHICOPEE | MA | 01022 | AIR FORCE | 3005 3010 3016 103c
NPS-PROVINCETOWN SANITARY LANDFILL | W OFF OF RACE POINT RD | PROVINCETOWN | MA | 02657 | INTERIOR | 103c
NPS-SEPTAGE TREATMENT FACILITY/OLD CAMP WELLFLEET | EAST OFF ROUTE 6 | WELLFLEET | MA | 02667 | INTERIOR | 3016 103c
SOUTH PORTLAND COAST GUARD BASE | 259 HIGH ST | SOUTH PORTLAND | ME | 04106 | TRANSPORTATION | 3010 103c
KEWEENAW FIELD STATION | KEWEENAW FIELD | KEWEENAW BAY | MI |  | ARMY | 103c
PONTIAC STORAGE FACILITY | 871 SOUTH BOULEVARD | PONTIAC | MI | 48503 | ARMY | 103c
ESCANABA DEFENSE FUEL SUPPORT POINT | US HIGHWAY 41 DELTA COUNTY | GLADSTONE | MI | 49387 | DEFENSE LOGISTICS AGENCY | 3010 3016 103c
ATKINS FARM | 1.5 MI W ON HWY 16 THEN S 3/4 MI | CANTON | MO | 63435 | AGRICULTURE | 103c 3016
MARK TWAIN NATIONAL FOREST | 401 FAIRGROUNDS ROAD | ROLLA | MO | 65401 | AGRICULTURE | 103c 3010
STANLEY R MICKELSEN SAFEGUARD COMPLES-(RSL-4) REMOTE SPRINT LA | 1 MILE SOUTHWEST OF FAIRDALE | FAIRDALE | ND | 58205 | AIR FORCE | 103c
STANLEY R MICKELSEN SAFEGUARD COMPLEX-(RSL-1) REMOTE SPRINT LA | 3 MILES EAST OF HAMPDEN | HAMPDEN | ND | 58338 | AIR FORCE | 103c
STANLEY R MICKELSEN SAFEGUARD COMPLEX-(RSL-2) REMOTE SPRINT LA | 6 MILES NORTH OF LANGDON | LANGDON | ND | 58249 | AIR FORCE | 103c
STANLEY R MICKELSEN SAFEGUARD COMPLEX-(RSL-3) REMOTE SPRINT LA | 19 MILES EAST OF LANGDON | LANGDON | ND | 58249 | AIR FORCE | 103c
STANLEY R. MICKELSON SAFEGUARD COMPLEX |  | NEKOMA | ND |  | AIR FORCE | 103c
NEWINGTON DEFENSE FUEL SUPPORT POINT | PATTERSON LANE | NEWINGTON | NH | 03801 | DEFENSE LOGISTICS AGENCY | 3010 3016 103c
BOMARC/MCGUIRE MSL | RT 539 | NEW EGYPT | NJ | 08533 | AIR FORCE | 103c
GNOME-COACH | T23S,R30E, SECC 34; 31 MI SE OF CARLSBAD | CARLSBAD | NM |  | ENERGY | 103c
GUS KEFURT ARMY RESERVE CENTER | 399 MILLER STREET | YOUNGSTOWN | OH | 44507 | ARMY | 3010
KREJCI DUMP SITE | 814 HINES HILL RD | BOSTON HEIGHTS | OH | 44236 | INTERIOR | 3010
NORTH SMITHFIELD NIKE LAUNCHER AREA | POUNDHILL ROAD | NORTH SMITHFIELD | RI | 02857 | ARMY | 103c
POINSETT WEAPONS RANGE | 4 MILES S OF WEDGEFIELD, SC | WEDGEFIELD | SC | 29152 | AIR FORCE | 3016
CHARLESTON COAST GUARD GROUP | 196 TRADD ST | CHARLESTON | SC | 29401 | TRANSPORTATION | 3010
NPS-GREAT SMOKEY MOUNTAINS NATIONAL PARK | USNPS RT 2 | GATLINBURG | TN | 37738 | INTERIOR | 3005 3010 103c
APPALACHIAN SMELTING AND REFINERY | SOUTH HOLSTON LAKE | BRISTOL | TN | 37620 | TENNESSEE VALLEY AUTHORITY | 103c
JOHNSONVILLE FOSSIL PLANT | US HWY 70 E | NEW JOHNSONVILLE | TN | 37134 | TENNESSEE VALLEY AUTHORITY | 103c 3010 103a 3005
TENNESSEE VALLEY AUTHORITY | HIGHWAY 69A | BIG SANDY | TN | 38221 | TENNESSEE VALLEY AUTHORITY | 3010
TVA WILSON 500 KV SUBSTATION | 2280 BECKWITH ROAD | MOUNT JULIET | TN | 37122 | TENNESSEE VALLEY AUTHORITY | 3010
VERMONT AIR NATIONAL GUARD | 10 FALCON STREET, SUITE A | SOUTH BURLINGTON | VT | 05403-5873 | AIR FORCE | 3010 103c 3016
ETHAN ALLEN FIRING RANGE | LEE RIVER ROAD | JERICHO | VT | 05465 | ARMY | 3010 103c
FS-OKANOGAN-WENATCHEE NF: LOWER WINTHROP COMPOUND | 19284 HWY 20, 300 FT W OF DOWNTOWN CY, +48.481111° N, −120.186668° W | WINTHROP | WA | 98862 | AGRICULTURE | 103c
FS-OKANOGAN-WENATCHEE NF: NORTH CASCADES SMOKEJUMPER BASE | 23 INTERCITY AIRPORT RD, 3 MI SE OF CY, +48.4206667° N, −120.1470000° W | WINTHROP | WA | 98862 | AGRICULTURE | 103c
FS-NORTH CENTRAL FOREST EXPERIMENTS STATION | 5985 COUNTY HIGHWAY K | RHINELANDER | WI | 54501 | AGRICULTURE | 103a 3010
VOLK FIELD | HWY 94 JUNEAU COUNTY | CAMP DOUGLAS | WI | 54618 | AIR FORCE | 3016 3010 103c
BLM-RAWLINS LANDFILL | P.O. BOX 953 | RAWLINS | WY | 82301 | INTERIOR | 103c

[FR Doc. 02-16460 Filed 6-28-02; 8:45 am]

BILLING CODE 6560-50-P